DEPARTMENT OF HOMELAND SECURITY

Coast Guard

[Docket No. USCG-2014-0146]

Revisions to Maritime Security Directive 104-6; Guidelines for U.S. Vessels Operating in High Risk Waters

AGENCY: Coast Guard, DHS.

ACTION: Notice of availability.

SUMMARY: The Coast Guard announces the availability of Revision 7 to Maritime Security (MARSEC) Directive 104-6, which provides guidelines for U.S. vessels operating in high risk waters (HRW) where acts of terrorism, piracy, and armed robbery against ships are prevalent, as well as specific guidance for offshore supply vessels and liftboats operating in the Gulf of Guinea. The directive contains security-sensitive information and therefore cannot be made available to the general public. U.S. vessel owners and operators who have needed to take action under previous versions of MARSEC Directive 104-6, or whose vessels operate in waters off the coast of Africa, should immediately contact their local Coast Guard Captain of the Port or District Commander for a copy of Revision 7, which contains important updates to the locations of HRW and to the guidelines for addressing security risks in those waters. The Coast Guard advises such owners and operators that, under Revision 7, they may need to take specific actions in accordance with MARSEC Directive 104-6 before their vessel enters HRW. This notice is issued under the authority of 5 U.S.C. 552(a).

FOR FURTHER INFORMATION CONTACT: For information about this document call or email LCDR Aaron Demo, U.S. Coast Guard; telephone 202-372-1272, email aaron.w.demo@uscg.mil. For information about viewing or submitting material to the docket, call Barbara Hairston, Program Manager, Docket Operations, telephone 202-366-9826.

Dated: April 20, 2014.
J.C. Burton,
Captain, U.S. Coast Guard, Director of Inspections and Compliance.

[FR Doc. 2014-09385 Filed 4-24-14; 8:45 am]

BILLING CODE 9110-04-P